DEPARTMENT OF HEALTH AND HUMAN SERVICES

Centers for Disease Control and Prevention

National Institute for Occupational Safety and Health Advisory Board on Radiation and Worker Health

In accordance with section 10(a)(2) of the Federal Advisory Committee Act (Pub. L. 92-463), the Centers for Disease Control and Prevention (CDC) announces the following committee meeting:

Name: Advisory Board on Radiation and Worker Health (ABRWH), National Institute for Occupational Safety and Health (NIOSH).

Subcommittee Meeting Time and Date: 8:30 a.m.-9:30 a.m., December 13, 2004.

Committee Meeting Times and Dates: 9:45 a.m.-4:30 p.m., December 13, 2004; 8 a.m.-4:30 p.m., December 14, 2004; 7 p.m.-8:30 p.m., December 14, 2004; 8:30 a.m.-4:30 p.m., December 15, 2004.

Place: The DoubleTree Club Hotel, 720 Las Flores Road, Livermore, California 94551, telephone 925/443-4950, fax 925/449-9059.

Status:

Subcommittee Meeting Time and Date: Open 8:30 a.m.-9:30 a.m., December 13, 2004.

Committee Meeting Times and Dates: Open 9:45 a.m.-1 p.m., December 13, 2004; Closed 1 p.m.-4:30 p.m., December 13, 2004; Open 8 a.m.-4:30 p.m., December 14, 2004; Open 7 p.m.-8:30 p.m., December 14, 2004; Open 8:30 a.m.-4:30 p.m., December 15, 2004; The open portions of the meeting are limited only by the space available. The meeting room accommodates approximately 65 people.

Background

The ABRWH was established under the Energy Employees Occupational Illness Compensation Program Act (EEOICPA) of 2000 to advise the President, on a variety of policy and technical functions required to implement and effectively manage the new compensation program. Key functions of the Board include providing advice on the development of probability of causation guidelines which have been promulgated by HHS as a final rule, advice on methods of dose reconstruction which have also been promulgated by HHS as a final rule, advice on the scientific validity and quality of dose estimation and reconstruction efforts being performed for purposes of the compensation program, and advice on petitions to add classes of workers to the Special Exposure Cohort (SEC). In December 2000 the President delegated responsibility for funding, staffing, and operating the Board to HHS, which subsequently delegated this authority to the CDC. NIOSH implements this responsibility for CDC. The charter was issued on August 3, 2001, and renewed on August 3, 2003.

Purpose

This board is charged with (a) providing advice to the Secretary, HHS, on the development of guidelines under Executive Order 13179; (b) providing advice to the Secretary, HHS, on the scientific validity and quality of dose reconstruction efforts performed for this Program; and (c) upon request by the Secretary, HHS, advise the Secretary on whether there is a class of employees at any Department of Energy facility who were exposed to radiation but for whom it is not feasible to estimate their radiation dose, and on whether there is reasonable likelihood that such radiation doses may have endangered the health of members of this class.

Matters to Be Discussed

The agenda for this meeting will focus on Program Status Reports from NIOSH and the Department of Labor, Contract Process and Requirements, Board Discussion of Case Reviews, Subcommittee Report and Recommendations, Site Profile Review, NIOSH's Response to Site Profile Review, SEC Petition Process Procedures, SEC Petition Evaluation Review Plan Workgroup Report, Scientific Research Issues Update, and a Board working session. There will be an evening public comment period scheduled for December 14, 2004, and a public comment period on December 15, 2004.

The Subcommittee will convene on December 13, 2004, from 8:30 a.m.-9:30 a.m. and will focus on review of draft minutes and selection of Individual Dose Reconstruction Cases for Board Review.

The closed portion of the meeting on December 13th will involve discussion of individual dose reconstruction case reviews, and is required to avoid the public disclosure of confidential information and claimant's privacy.

The agenda is subject to change as priorities dictate.

FOR FURTHER INFORMATION CONTACT: Larry Elliott, Executive Secretary, ABRWH, NIOSH, CDC, 4676 Columbia Parkway, Cincinnati, Ohio 45226, telephone 513/533-6825, fax 513/533-6826.

The Director, Management Analysis and Services Office, has been delegated the authority to sign Federal Register notices pertaining to announcements of meetings and other committee management activities for both CDC and the Agency for Toxic Substances and Disease Registry.

Dated: November 24, 2004.
B. Kathy Skipper,
Acting Director, Management Analysis and Services Office, Centers for Disease Control and Prevention.

[FR Doc. 04-26490 Filed 11-30-04; 8:45 am]

BILLING CODE 4163-19-P